DEPARTMENT OF COMMERCE

National Oceanic and Atmospheric Administration

[RTID 0648-XA556]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Mackerel Cobia Advisory Panel (AP) on November 2, 2020.

DATES: The meeting will be held via webinar on November 2, 2020, from 1 p.m. until 5 p.m.

ADDRESSES:

Meeting address: The meeting will be held via webinar. The webinar is open to members of the public. Registration is required. Webinar registration, an online public comment form, and briefing book materials will be available two weeks prior to the meeting at: http://safmc.net/safmc-meetings/current-advisory-panel-meetings/.

Council address: South Atlantic Fishery Management Council, 4055 Faber Place Drive, Suite 201, N Charleston, SC 29405.

FOR FURTHER INFORMATION CONTACT: Christina Wiegand, Fishery Social Scientist, SAFMC; phone: (843) 571-4366 or toll free: (866) SAFMC-10; fax: (843) 769-4520; email: kim.iverson@safmc.net.

SUPPLEMENTARY INFORMATION: The Mackerel Cobia AP will meet via webinar. Agenda items: An update on actions related the Coastal Migratory Pelagics (CMP) fishery including the Southeast Data, Assessment and Review (SEDAR) 78 stock assessment for South Atlantic Spanish mackerel currently in the planning stages and CMP Amendment 32 addressing Gulf of Mexico cobia. The AP will discuss the results of the SEDAR 38 Update for Atlantic king mackerel and proposed modifications to management measures and sector allocations. AP members will receive updates on Council involvement in activities related to climate change and the Council's Citizen Science Program. The AP will provide recommendations for Council consideration as appropriate. Additionally, the AP will discuss nomination and election of a new Chair and Vice-Chair.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: October 14, 2020.
Tracey L. Thompson,
Acting Deputy Director, Office of Sustainable Fisheries, National Marine Fisheries Service.

[FR Doc. 2020-23048 Filed 10-16-20; 8:45 am]

BILLING CODE 3510-22-P